DEPARTMENT OF LABOR

Occupational Safety and Health Administration

Advisory Committee on Construction Safety and Health; Notice of Meeting

AGENCY: Occupational Safety and Health Administration (OSHA).

ACTION: Notice of a meeting of the Advisory Committee on construction safety and health (ACCSH).

SUMMARY: ACCSH will meet February 17, 2005, in Rosemont, IL. This meeting is open to the public.

Time and Date: ACCSH will meet from 9:30 a.m. to 1:30 p.m., Thursday, February 17, 2005.

Place: ACCSH will meet at the Holiday Inn Select O'Hare, 10233 West Higgins Road, Rosemont, IL 60018.

FOR FURTHER INFORMATION CONTACT: For general information about ACCSH and ACCSH meetings: Michael Buchet, OSHA, Directorate of Construction, Room N-3468, U.S. Department of Labor, 200 Constitution Avenue, NW., Washington, DC 20210; telephone (202) 693-2020. For information about submission of comments, requests to speak, and the need for special accommodations for the meeting: Veneta Chatmon, OSHA, Office of Information, Room N-3647, U.S. Department of Labor, 200 Constitution Avenue, NW., Washington, DC 20210; telephone (292) 693-1999. Individuals needing special accommodations should contact Ms. Chatmon no later than February 10, 2005.

SUPPLEMENTARY INFORMATION: ACCSH will meet February 17, 2005 in Rosemont, IL. The agenda for this meeting includes:

• Welcome

• Remarks: Office of the Assistant Secretary—OSHA

• Presentation/Discussion—Steel Erection, Slipperiness of Metal Decking and Vanishing Oils

• Consideration of the draft proposed rule on Confined Spaces in Construction

• Public Comment (During this period, any member of the public is welcome to address ACCSH about construction-related safety and health issues. See information below to request time to speak at the meeting.)

All ACCSH meetings are open to the public. An official record of the meeting will be available for public inspection at the OSHA Docket Office, Room N-2625, at the address above, telephone (202) 693-2350. Electronic copies of this Federal Register notice, as well as information about ACCSH workgroups and other relevant documents, are available on OSHA's Web page at http://www.osha.gov.

Attendees may request to make an oral presentation by notifying Ms. Chatmon before the meeting at the address above. The request must state the amount of time desired, the interest represented by the presenter (e.g., the name of the business or organization), if any, and a brief outline of the presentation. Alternately, at the meeting attendees may request to address ACCSH by signing the public comment request sheet. Requests to speak may be granted at the ACCSH Chair's discretion and as time permits.

Attendees and interested parties may also submit written data, views, or comments, preferably with 20 copies, to Ms. Chatmon, at the address above or at the ACCSH meeting. OSHA will provide submissions received prior to the meeting to ACCSH members and will include each submission in the record of the meeting.

ACCSH Work Groups

The following ACCSH work groups will meet at the Holiday Inn Select O'Hare, 10233 West Higgins Road, Rosemont, IL 60018 in conjunction with this meeting:

Rollover Protective Structures (ROPS) from 8:30 a.m.-9:30 a.m., Thursday, February 17, 2005;

Trenching from 2:30 p.m.-4 p.m., Thursday, February 17, 2005.

Work group meetings are open to the public. For further information on ACCSH work group meetings or on participating on ACCSH work groups, please contact Michael Buchet at the address above or look on the ACCSH page on OSHA's Web page.

Authority: Jonathan L. Snare, Acting Assistant Secretary of Labor for Occupational Safety and Health, directed the preparation of this notice under the authority granted by section 7 of the Occupational Safety and Health Act of 1970 (29 U.S.C. 656), section 3704 of the Contract Work Hours and Safety Standards Act (40 U.S.C. 3701 et seq.), and Secretary of Labor's Order No. 5-2002 (67 FR 65008).

Signed at Washington, DC this 26th day of January, 2005.
Jonathan L. Snare,
Acting Assistant Secretary of Labor.

[FR Doc. 05-1888 Filed 2-1-05; 8:45 am]

BILLING CODE 4510-26-P